ENVIRONMENTAL PROTECTION AGENCY

[FRL-6584-5]

Agency Information Collection Activities: Submission for OMB Review; Comment Request; Environmental Radiation Ambient Monitoring System (ERAMS)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Environmental Radiation Ambient Monitoring System (ERAMS); OMB Control Number 2060-0015; EPA ICR Number 0877.07; expiration date, June 30, 2000. The ICR describes the nature of the information collection and its expected burden and cost; where appropriate, it includes the actual data collection instrument.

DATES: Comments must be submitted on or before May 25, 2000.

FOR FURTHER INFORMATION CONTACT: For a copy of the ICR contact Sandy Farmer at EPA by phone at (202) 260-2740, by E-Mail at Farmer.Sandy@epamail.epa.gov or download off the Internet at http://www.epa.gov/icr and refer to EPA ICR No. 0877.07. For technical questions about the ICR contact Charles M. Petko, (334) 270-3411.

SUPPLEMENTARY INFORMATION: Title: Environmental Radiation Ambient Monitoring System; OMB Control Number 2060-0015; EPA ICR Number 0877.07; expiration date, June 30, 2000. This is a request for extension of a currently approved collection.

Abstract: The Environmental Radiation Ambient Monitoring System (ERAMS) consists of a national network of sample collection stations for air, milk, precipitation, and drinking water. On prescribed schedules, all collected samples are shipped to the National Air and Radiation Environmental Laboratory (NAREL) in Montgomery, Alabama, which is an EPA facility operating under EPA's Office of Radiation and Indoor Air. NAREL analyzes all samples for levels of radiation, and the resultant data are then made available online at the EPA website and in printed format. The data are used to fulfill the Agency's commitment to public information, but they are also used by scientists and radiation professionals in a number of ways, including comparison with data developed by other agencies and commercial groups, such as the nuclear power industry. In the event of national radiation emergency, especially when EPA is the lead federal agency, ERAMS data collections and analyses are accelerated as necessary and the resultant data are used to support decisions for protecting the public health and the environment. Frequently, sample collectors are employed by state health departments or environmental agencies.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on October 28, 1999; 1 set of comments were received.

Burden Statement: The annual public reporting and recordkeeping burden for this collection of information is estimated to average 0.37 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected: Typically State & sometimes Local Government Sample Collectors.

Estimated Number of Respondents: 249.

Frequency of Response: from twice weekly to four times annually.

Estimated Total Annual Hour Burden: 8,363 hours.

Estimated Total Annualized Capital and Operating & Maintenance Cost Burden: $0.

Send comments on the Agency's need for this information, the accuracy of the provided burden estimates, and any suggested methods for minimizing respondent burden, including through the use of automated collection techniques to the following addresses. Please refer to EPA ICR No. 0877.07 and OMB Control No. 2060-0015 in any correspondence.

Ms. Sandy Farmer, U.S. Environmental Protection Agency, Office of Environmental Information, Collection Strategies Division (2822), 1200 Pennsylvania Ave, NW, Washington, DC 20460; and

Office of Information and Regulatory Affairs, Office of Management and Budget, Attention: Desk Officer for EPA, 725 17th Street, NW, Washington, DC 20503.

Dated: April 18, 2000.
Oscar Morales,
Director, Collection Strategies Division.

[FR Doc. 00-10282 Filed 4-24-00; 8:45 am]

BILLING CODE 6560-50-P